DEPARTMENT OF ENERGY

Electricity Advisory Committee

AGENCY: Office of Electricity, Department of Energy.

ACTION: Notice of Open Meeting.

SUMMARY: This notice announces a meeting of the Electricity Advisory Committee. The Federal Advisory Committee Act requires that public notice of these meetings be announced in the Federal Register.

DATES: Wednesday, October 17, 2018, 12:00 p.m.—6:00 p.m. EST; Thursday, October 18, 2018, 8:00 a.m.—12:15 p.m. EST.

ADDRESSES: The meeting will be held at the National Rural Electric Cooperative Association, 4301 Wilson Blvd., Arlington, VA 22203.

FOR FURTHER INFORMATION CONTACT: Lawrence Mansueti, Office of Electricity, U.S. Department of Energy, Forrestal Building, Room 8G-017, 1000 Independence Avenue SW, Washington, DC 20585; Telephone: (202) 586-2588 or Email: lawrence.mansueti@hq.doe.gov.

SUPPLEMENTARY INFORMATION:

Purpose of the Committee: The Electricity Advisory Committee (EAC) was re-established in July 2010, in accordance with the provisions of the Federal Advisory Committee Act (FACA), as amended, 5 U.S.C., App. 2, to provide advice to the U.S. Department of Energy (DOE) in implementing the Energy Policy Act of 2005, executing the Energy Independence and Security Act of 2007, and modernizing the nation's electricity delivery infrastructure. The EAC is composed of individuals of diverse backgrounds and selected for their technical expertise and experience, established records of distinguished professional service, and their knowledge of issues that pertain to electricity.

Tentative Agenda: The meeting of the EAC is expected to include panels or presentations on institutional perspectives on grid resilience, an update related to FERC, case studies in operations and scale relating to emerging technologies addressing megawatt-scale storage, and the grid modernization MYPP peer review. Additionally, the meeting is expected to include an update on the programs and initiatives of the DOE's Office of Electricity and an update on the activities of the Smart Grid Subcommittee and the Energy Storage Subcommittee.

Tentative Agenda: October 17, 2018

12:00 p.m.-1:00 p.m. Registration

1:00 p.m.-1:15 p.m. Welcome, Introductions, Developments since the July 2018 Meeting

1:15 p.m.-1:30 p.m. Update on the DOE Office of Electricity (OE) Programs and Initiatives

1:30 p.m.-2:30 p.m. FERC Update

2:30 p.m.-2:45 p.m. Break

2:45 p.m.-3:15 p.m. Presentation: Institutional Perspectives on Grid Resilience

3:15 p.m.-5:15 p.m. Panel Session: Institutional Perspectives on Grid Resilience

5:15 p.m.-5:30 p.m. Break

5:30 p.m.-5:55 p.m. Ethics Briefing

5:55 p.m.-6:00 p.m. Wrap-up and Adjourn Day 1

Tentative Agenda: October 18, 2018

8:00 a.m.-10:30 a.m. Presentation and Panel: Approaching Megawatt-Scale Storage Through Emerging Technologies: Case Studies in Operations and Scale

10:30 a.m.-10:45 a.m. Break

10:45 a.m.-11:15 a.m. Presentation on Grid Modernization MYPP Peer Review

11:15 a.m.-11:35 a.m. Smart Grid Subcommittee Update

11:35 a.m.-12:00 p.m. Energy Storage Subcommittee Update

12:00 p.m.-12:10 p.m. Public Comments

12:10 p.m.-12:15 p.m. Wrap-up and Adjourn

The meeting agenda may change to accommodate EAC business. For EAC agenda updates, see the EAC website at: http://energy.gov/oe/services/electricity-advisory-committee-eac.

Public Participation: The EAC welcomes the attendance of the public at its meetings. Individuals who wish to offer public comments at the EAC meeting may do so on Thursday, October 18, 2018, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement to Mr. Lawrence Mansueti.

You may submit comments, identified by: “Electricity Advisory Committee Open Meeting,” through any of the following methods:

• Mail/Hand Delivery/Courier: Lawrence Mansueti, Office of Electricity, U.S. Department of Energy, Forrestal Building, Room 8G- 017, 1000 Independence Avenue SW, Washington, DC 20585.

• Email: Lawrence.mansueti@hq.doe.gov. Include “Electricity Advisory Committee Open Meeting” in the subject line of the message.

• Federal eRulemaking Portal: http://www.regulations.gov. Follow the instructions for submitting comments. Instructions: All submissions received must include the agency name and identifier. All comments received will be posted without change to http://energy.gov/oe/services/electricity-advisory-committee-eac, including any personal information provided.

• Docket: For access to the docket, to read background documents or comments received, go to http://energy.gov/oe/services/electricity-advisory-committee-eac.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

Note: Delivery of the U.S. Postal Service mail to DOE may be delayed by several weeks due to security screening. DOE, therefore, encourages those wishing to comment to submit comments electronically by email. If comments are submitted by regular mail, the Department requests that they be accompanied by a CD or diskette containing electronic files of the submission.

Minutes: The minutes of the EAC meeting will be posted on the EAC web page at http://energy.gov/oe/services/electricity-advisory-committee-eac. They can also be obtained by contacting Mr. Lawrence Mansueti at the address above.

Signed in Washington, DC on September 6, 2018.
Latanya Butler,
Deputy Committee Management Officer.

[FR Doc. 2018-19829 Filed 9-11-18; 8:45 am]

BILLING CODE 6450-01-P